DEPARTMENT OF TRANSPORTATION

Federal Aviation Administration

Notice of Intent To Prepare an Environmental Impact Statement and Conduct Scoping for Air Traffic Procedural Changes Associated With the Northern Utah Airspace Initiative

AGENCY: Federal Aviation Administration, DOT.

ACTION: Notice of intent to prepare an environmental impact statement and conduct scoping meetings.

SUMMARY: The Federal Aviation Administration (FAA), Northwest Mountain Region, is issuing this notice to advise the public, pursuant to the National Environmental Policy Act of 1969, as amended, (NEPA) 42 U.S.C. 4332(2)(C) that the FAA intends to prepare an Environmental Impact Statement (EIS) for the proposed Northern Utah Airspace Initiative. This Notice of Intent is published as required by the President's Council on Environmental Quality (CEQ) Regulations implementing the provisions of NEPA, 40 CFR parts 1500-1508. This EIS will assess the potential environmental impacts resulting from proposed modifications to air traffic routings in the metropolitan Salt Lake City and surrounding areas. Airports in this area include Salt Lake City International Airport, Ogden-Hinckley Airport, Hill Air Force Base, and the Provo Airport, as well as other smaller general aviation use airports. All reasonable alternatives will be considered including a no-change alternative/option. In order to ensure that all significant issues pertaining to the proposed action are identified, public participation, through public scoping meetings, will be held.

FOR FURTHER INFORMATION CONTACT: Clark Desing, (801) 325-9626, PO Box 22867, AMF, Salt Lake City, Utah, 84122 or see the following Web site: http://www2.faa.gov/ats/nar/nw_mt/nw_mt_salt.htm.

SUPPLEMENTARY INFORMATION: The Northern Utah Airspace Initiative will examine the airspace surrounding the Salt Lake City International Airport, up to the en route structure. The airports in the study area are: Salt Lake City International Airport, Ogden-Hinckley Airport, Hill Air Force Base, and the Provo Airport, as well as other smaller general aviation use airports.

In response to existing and forecast aviation demand generating a significant flow of air traffic in the study area, the FAA is examining alternative ways to modify air traffic routes and procedures to avoid degradation of safety, improve efficiency, and meet future traffic demands. The airspace redesign team is using sophisticated modeling tools to develop viable air traffic control (ATC) alternatives to current operations. The FAA will examine methods that will take advantage of new and emerging ATC technologies, improved performance characteristics of modern aircraft, as well as improvements in navigation capabilities. The proposal will address the merits of a 4-corner post concept with consideration of an additional downwind. The project is not associated with any airport development projects or construction of any physical facilities.

As part of the airspace redesign effort, the FAA will provide detailed analyses that will be use to evaluate the potential environmental impacts in the study area. During scoping, and upon publication of a draft EIS and a final EIS, the FAA will be contacting and coordinating with federal, state, and local agencies, as well as the public, to obtain comments and suggestions regarding the EIS for the proposed project. The EIS will assess impacts and reasonable alternatives including a “no change” alternative, pursuant to NEPA; FAA Order 1050.1, Policies and Procedures for Assessing Environmental Impacts; DOT Order 5610.1, Procedures for Considering Environmental Impacts; and the President's Council on Environmental Quality (CEQ) Regulations implementing the provisions of NEPA, 40 CFR Parts 1500-1508, and other appropriate Agency guidance.

Public Scoping Process: The FAA will use the scoping process as outlined in the Council on Environmental Quality (CEQ) Regulations and guidelines to facilitate public involvement. Concerned individuals and agencies are invited to express their views either in writing, or by providing oral comments at a scoping meeting. The purpose of a scoping process and scoping meetings are: (1) To provide a description of the proposed action, (2) to provide an early and open process to determine the scope of issues to be addressed and to identify potentially significant issues or impacts related to the proposed action that should be analyzed in the EIS, (3) to identify other coordination and any permit requirements associated with the proposed action, (4) to identify and eliminate from detailed study those issues that are not significant or those that have been adequately addressed during a prior environmental review process.

The FAA has scheduled three public scoping meetings. Each meeting will be held from 7 p.m. to 9 p.m. at sites listed below. Each of the meetings will begin with an overview of the project (7 p.m.-7:30 p.m.) and will be followed by an informal open house period (7:30 p.m.-9 p.m.) The open house portion of each public scoping meeting will include redesign displays and graphics and will provide an opportunity for one-on-one interaction between the representatives of the FAA and the general public. Comments will be received via court reporter or written comment forms throughout the duration of the meeting. Formal comments for the record will not be accepted via E-mail. Meeting dates and locations are:

—March 18, 2003—Marriott City Center, Salt Lake City, UT.

—March 19, 2003—Marriott Hotel, Provo, UT.

—March 20, 2003—Marriott Hotel, Ogden, UT.

In accordance with NEPA coordination requirements, the FAA has scheduled one meeting that will be dedicated primarily to federal, state and local agency staff, and Native American governments. This meeting is scheduled on March 18, 2003, from 1 p.m. to 3 p.m. at the Marriott City Center, Salt Lake City. Although this meeting will be held primarily for the benefit of federal, tribal, state and local agency staff, it will also be open to the public.

The scoping period begins with this announcement. To ensure that all issues are identified, the FAA is requesting comments and suggestions on the project scope from all interested federal, state and local agencies and other interested parties. In furtherance of this effort, the FAA has established an Internet Website that can be accessed at: http://www2.faa.gov/ats/nar/nw_mt/nw_mt_salt.htm. Additional information about the Northern Utah Airspace Initiative, including the scoping meeting schedule and meeting locations can be found at this Internet site. Additionally, the FAA will be maintaining the following telephone number for general information: (801) 325-9626.

DATES: The FAA will accept written scoping comments through May 16, 2003. Such comments should be directed to the following address: Northern Utah Airspace Initiative, PO Box 22867, AMF, Salt Lake City, UT 84122.

Issued in Renton, Washington on February 11, 2003.
Raul C. Trevino,
Acting Manager, Air Traffic Division, Northwest Mountain Region.

[FR Doc. 03-3975 Filed 2-18-03; 8:45 am]

BILLING CODE 4910-13-M